DEPARTMENT OF COMMERCE

International Trade Administration

University of Iowa, Notice of Consolidated Decision on Application for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Avenue., NW, Washington, D.C.

Docket Number: 09-017. Applicant: University of Iowa, Iowa City, IA 52242. Instrument: Electron Microscope. Manufacturer: JEOL, Japan. Intended Use: See notice at 74 FR 20281, May 1, 2009.

Comments: None received. Decision: Approved. No instrument of equivalent scientific value to the foreign instrument, for such purposes as this instrument is intended to be used, is being manufactured in the United States at the time the instrument was ordered. Reasons: The foreign instrument is an electron microscope and is intended for research or scientific educational uses requiring an electron microscope. We know of no electron microscope, or any other instrument suited to these purposes, which is being manufactured in the United States at the time of order of each instrument.

Dated: June 1, 2009.
Christopher Cassel,
Acting Director, Subsidies Enforcement Office, Import Administration.

[FR Doc. E9-13196 Filed 6-4-09; 8:45 am]

BILLING CODE 3510-DS-S